DEPARTMENT OF COMMERCE

International Trade Administration

Initiation of Antidumping and Countervailing Duty Administrative Reviews and Requests for Revocation in Part

AGENCY: Import Administration, International Trade Administration, Department of Commerce.

SUMMARY: The Department of Commerce (the Department) has received requests to conduct administrative reviews of various antidumping and countervailing duty orders and findings with December anniversary dates. In accordance with our regulations, we are initiating those administrative reviews. The Department also received requests to revoke one antidumping duty order in part.

DATES: Effective Date: February 2, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4737.

SUPPLEMENTARY INFORMATION:

Background

The Department has received timely requests, in accordance with 19 CFR 351.213(b), for administrative reviews of various antidumping and countervailing duty orders and findings with December anniversary dates. The Department also received timely requests to revoke in part the antidumping duty order on Honey from Argentina with respect to two exporters.

Notice of No Sales

Under 19 CFR 351.213(d)(3), the Department may rescind a review where there are no exports, sales, or entries of subject merchandise during the respective period of review (POR) listed below. If a producer or exporter named in this notice of initiation had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street and Constitution Avenue, NW, Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the POR. We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://ia.ita.doc.gov/nme.nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://ia.ita.doc.gov/nme.nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

Initiation of Reviews

In accordance with 19 CFR 351.221(c)(1)(i), we are initiating administrative reviews of the following antidumping and countervailing duty orders and findings. We intend to issue the final results of these reviews not later than December 31, 2009.

| Period to be reviewed
Antidumping Duty Proceedings
Argentina: Honey A-357-812 | 12/01/07-11/30/08
AGLH S.A
Algodonera Avellaneda S.A
Alimentos Naturales-Natural Foods
Alma Pura
Asociacion de Cooperativas Argentinas
Bomare S.A. (Bodegas Miguel Armengol)
Compania Apicola Argentina S.A
Compania Inversora Platense S.A
El Mana S.A
HoneyMax S.A
Interrupcion S.A
Mielar S.A
Miel Ceta SRL
Nexco S.A
Patagonik S.A
Productos Afer S.A
Seabird Argentina S.A
Seylinco, S.A
India:
Carbazole Violet Pigment 23 A-533-838 | 12/1/07-11/30/08
Alpanil Industries Limited
Certain Hot-Rolled Carbon Steel Flat Products A-533-820 | 12/1/07-11/30/08
Essar Steel Limited
Ispat Industries Limited
JSW Steel Limited
Tata Steel Limited
South Korea: Welded ASTM A-312 Stainless Steel Pipe A-580-810 | 12/1/07-11/30/08
SeAH Steel Corporation
The People's Republic of China:
Carbazole Violet Pigment 23 ¹ A-570-892 | 12/1/07-11/30/08
Trust Chem Co., Ltd
Certain Cased Pencils ² A-570-827 | 12/1/07-11/30/08
China First Pencil Company, Ltd., and all subsidiaries and affiliates including but not limited to Shanghai First Writing Instrument Co., Ltd., Shanghai Great Wall Pencil Co., Ltd. and China First Pencil Fang Zheng Co., Ltd
Anhui Import & Export Co., Ltd
Beijing Dixon Stationery Company Ltd
Guangdong Provincial Stationery & Sporting Goods Import & Export Corporation
Orient International Holding Shanghai Foreign Trade Corporation
Shandong Rongxin Import & Export Co., Ltd
Shanghai Three Star Stationary Industry Co., Ltd
Tianjin Custom Wood Processing Co., Ltd
Three Star Stationery Industry Corp
Hand Trucks and Parts Thereof ³ A-570-891 | 12/1/07-11/30/08
Qingdao Huatian Hand Truck Co., Ltd
True Potential Co., Ltd
New-Tec Integration (Xiamen) Co., Ltd
Since Hardware (Guangzhou) Co., Ltd
Honey ⁴ A-570-863 | 12/1/07-11/30/08
Alfred L. Wolff (Beijing) Co., Ltd
Anhui Honghui Foodstuff (Group) Co., Ltd
Anhui Native Produce Imp & Exp Corp
Cheng Du Wai Yuan Bee Products Co., Ltd
Chengdu Stone Dynasty Art Stone
Dongtai Peak Honey Industry Co., Ltd
Eurasia Bee's Products Co., Ltd
Fresh Honey Co., Ltd. (formerly Mgl. Yun Shen)
Golden Tadco Int'l
Hangzhou Golden Harvest Health Industry Co., Ltd
Haoliluck Co., Ltd
Hubei Yusun Co., Ltd
Inner Mongolia Altin Bee-Keeping
Inner Mongolia Youth Trade Development Co., Ltd
Jiangsu Kanghong Natural Healthfoods Co., Ltd
Jiangsu Light Industry Products Imp & Exp (Group) Corp
Jilin Province Juhui Import
Maersk Logistics (China) Company Ltd
Nefelon Limited Company
Ningbo Shengye Electric Appliance
Ningbo Shunkang Health Food Co., Ltd
Qingdao Aolan Trade Co., Ltd
QHD Sanhai Honey Co., Ltd
Qinhuangdao Municipal Dafeng Industrial Co., Ltd
Renaissance India Mannite
Shaanxi Youthsun Co., Ltd
Shanghai Bloom International Trading Co., Ltd
Shanghai Foreign Trade Co., Ltd
Shanghai Hui Ai Mal Tose Co., Ltd
Shanghai Taiside Trading Co., Ltd
Sichuan-Dujiangyan Dubao Bee Industrial Co., Ltd
Silverstream International Co., Ltd
Tianjin Eulia Honey Co., Ltd
Wuhan Bee Healthy Co., Ltd
Wuhan Shino-Food Trade Co., Ltd
Wuhu Qinshi Tangye
Wuhu Qinshgi Tangye
Xinjiang Jinhui Food Co., Ltd
Malleable Cast Iron Pipe Fittings ⁵ A-570-881 | 12/1/07-11/30/08
Beijing Sai Lin Ke Hardware Co., Ltd
Mueller Comercial de Mexico, S. de R.L. de C.V
Countervailing Duty Proceedings
Argentina: Honey C-357-813 | 1/1/08-12/31/08
India:
Carbazole Violet Pigment 23 C-533-839 | 1/1/07-12/31/07
Alpanil Industries Limited
Certain Hot-Rolled Carbon Steel Flat Products C-533-821 | 1/1/08-12/31/08
Essar Steel Ltd
Ispat Industries Limited
JSW Steel Limited
Tata Steel Limited
¹ If one of the above named companies does not qualify for a separate rate, all other exporters of Carbazole Violet Pigment 23 from the People's Republic of China who have not qualified for a separate rate are deemed to be covered by this review as part of the single PRC entity of which the named exporters are a part.
² If one of the above named companies does not qualify for a separate rate, all other exporters of Certain Cased Pencils from the People's Republic of China who have not qualified for a separate rate are deemed to be covered by this review as part of the single PRC entity of which the named exporters are a part.
³ If one of the above named companies does not qualify for a separate rate, all other exporters of Hand Trucks and Parts Thereof from the People's Republic of China who have not qualified for a separate rate are deemed to be covered by this review as part of the single PRC entity of which the named exporters are a part.
⁴ If one of the above named companies does not qualify for a separate rate, all other exporters of Honey from the People's Republic of China who have not qualified for a separate rate are deemed to be covered by this review as part of the single PRC entity of which the named exporters are a part.
⁵ If one of the above named companies does not qualify for a separate rate, all other exporters of Malleable Cast Iron Pipe Fittings from the People's Republic of China who have not qualified for a separate rate are deemed to be covered by this review as part of the single PRC entity of which the named exporters are a part.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Act 19 U.S.C. 1675(a), and 19 CFR 351.221(c)(1)(i).

Dated: January 27, 2009.
John M. Andersen,
Acting Deputy Assistant Secretary for Antidumping and Countervailing Duty Operations.

[FR Doc. E9-2199 Filed 1-30-09; 8:45 am]

BILLING CODE 3510-DS-P